FEDERAL COMMUNICATIONS COMMISSION

Sunshine Act Meeting

December 11, 2007.

Open Commission Meeting, Tuesday, December 18, 2007

The Federal Communications Commission will hold an Open Meeting on the subjects listed below on Tuesday, December 18, 2007, which is scheduled to commence at 10:30 a.m. in Room TW-C305, at 445 12th Street, SW., Washington, DC. The Commission is waiving the sunshine period prohibition contained in section 1.1203 of the Commission's rules, 47 CFR 1.1203, until 5:30 p.m. on Friday, December 14, 2007. Thus, presentations with respect to the items listed below will be permitted until that time.

Item No. | Bureau | Subject
1 | Wireless Tele-Communications | Title: Implementation of section 6002(b) of the Omnibus Budget Reconciliation Act of 1993; Annual Report and Analysis of Competitive Market Conditions with Respect to Commercial Mobile Services (WT Docket No. 07-71). Summary: The Commission will consider a Twelfth Annual Report and Analysis of Competitive Market Conditions with Respect to Commercial Mobile Services.
2 | Wireless Tele-Communications and International | Title: Establishment of Rules and Policies for the Digital Audio Radio Satellite Service in the 2310-2360 MHz Frequency Band; Amendment of Part 27 of the Commission's Rules to Govern the Operation of Wireless Communications Services in the 2.3 GHz Band. Summary: The Commission will consider a Second Further Notice of Proposed Rulemaking seeking additional comment on the appropriate rules and policies for licensing satellite digital audio radio service (SDARS) terrestrial repeaters in the 2320-2345 MHz frequency band, and will consider a Notice of Proposed Rulemaking seeking comment on facilitating the coexistence of SDARS and Wireless Communications Service licensees.
3 | Media | Title: 2006 Quadrennial Regulatory Review—Review of the Commission's Broadcast Ownership Rules and Other Rules Adopted Pursuant to section 202 of the Telecommunications Act of 1996 (MB Docket No. 06-121); 2002 Biennial Regulatory Review—Review of the Commission's Broadcast Ownership Rules and Other Rules Adopted Pursuant to section 202 of the Telecommunications Act of 1996 (MB Docket No. 02-277); Cross-Ownership of Broadcast Stations and Newspapers (MM Docket No. 01-235); Rules and Policies Concerning Multiple Ownership of Radio Broadcast Stations in Local Markets (MM Docket No. 01-317); Definition of Radio Markets (MM Docket No. 00-244); Ways To Further section 257 Mandate and To Build on Earlier Studies (MB Docket No. 04-228); Public Interest Obligations of TV Broadcast Licensees (MM Docket No. 99-360). Summary: The Commission will consider a Report and Order concerning its media ownership regulations in accordance with section 202(h) of the Telecommunications Act of 1996. The Report and Order also addresses the relevant issues remanded by the U.S. Court of Appeals for the Third Circuit in Prometheus Radio Project, et al. v. FCC., 373 F.3d 372 (2004), and responds to petitions for reconsideration of the 2002 Biennial Review Order.
4 | Media | Title: Promoting Diversification of Ownership in the Broadcasting Services; 2006 Quadrennial Regulatory Review—Review of the Commission's Broadcast Ownership Rules and Other Rules Adopted Pursuant to section 202 of the Telecommunications Act of 1996 (MB Docket No. 06-121); 2002 Biennial Regulatory Review—Review of the Commission's Broadcast Ownership Rules and Other Rules Adopted Pursuant to section 202 of the Telecommunications Act of 1996 (MB Docket No. 02-277); Cross-Ownership of Broadcast Stations and Newspapers (MM Docket No. 01-235); Rules and Policies Concerning Multiple Ownership of Radio Broadcast Stations in Local Markets (MM Docket No. 01-317); Definition of Radio Markets (MM Docket No. 00-244); Ways To Further section 257 Mandate and To Build on Earlier Studies (MB Docket No. 04-228). Summary: The Commission will consider a Report and Order and Third Further Notice of Proposed Rulemaking concerning initiatives designed to increase participation in the broadcasting industry by new entrants and small businesses, including minority- and women-owned businesses.
5 | Media | Title: Sponsorship Identification Rules and Embedded Advertising. Summary: The Commission will consider a Notice of Proposed Rulemaking seeking comment on trends in embedded advertising and the efficacy of the current sponsorship identification rules with regard to embedded advertising.
6 | Media | Title: Report on Broadcast Localism and Notice of Proposed Rulemaking. (MB Docket No. 04-233). Summary: The Commission will consider a Report and Notice of Proposed Rulemaking prepared in its Broadcasting Localism proceeding.
7 | Media | Title: The Commission's Cable Horizontal and Vertical Ownership Limits (MM Docket No. 92-264); Implementation of section 11 of the Cable Television Consumer Protection and Competition Act of 1992 (CS Docket No. 98-82); Implementation of Cable Act Reform Provisions of the Telecommunications Act of 1996 (CS Docket No. 96-85); Review of the Commission's Regulations Governing Attribution of Broadcast and Cable/MDS Interests (MM Docket No. 94-150); Review of the Commission's Regulations and Policies Affecting Investment in the Broadcast Industry (MM Docket No. 92-51); Reexamination of the Commission's Cross-Interest Policy (MM Docket No. 87-154). Summary: The Commission will consider a Fourth Report and Order and Notice of Proposed Rulemaking establishing the cable horizontal ownership limit and seeking comment on vertical ownership limits and cable and broadcast attribution rules for purposes of promoting a diverse and competitive market in the acquisition and delivery of multichannel video programming.

Open captioning will be provided for this event. Other reasonable accommodations for people with disabilities are available upon request. Include a description of the accommodation you will need including as much detail as you can. Also include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (TTY).

Additional information concerning this meeting may be obtained from Audrey Spivack or David Fiske, Office of Media Relations, (202) 418-0500; TTY 1-888-835-5322. Audio/Video coverage of the meeting will be broadcast live with open captioning over the Internet from the FCC's Audio/Video Events web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
William F. Caton,
Deputy Secretary.

[FR Doc. 07-6098 Filed 12-14-07; 1:01 pm]

BILLING CODE 6712-01-P